NATIONAL ARCHIVES AND RECORDS ADMINISTRATION

[NARA-2016-043]

Advisory Committee on Presidential Library-Foundation Partnerships

AGENCY: National Archives and Records Administration (NARA).

ACTION: Charter Renewal of the Advisory Committee on Presidential Library-Foundation Partnerships.

SUMMARY: In accordance with the provisions of section 9(a)(2) of the Federal Advisory Committee Act (Pub. L. 92-463, 5 U.S.C., App.), the National Archives and Records Administration (NARA) is renewing the Advisory Committee on Presidential Library-Foundation Partnerships, a federal advisory committee that advises the Archivist of the United States on matters relating to the public-private partnership of the Presidential Libraries operated by NARA.

DATES: The charter renewal was effective on July 16, 2016 and remains in effect for two years from that date.

ADDRESSES: Please submit any questions on this notice by email to regulation_comments@nara.gov, by phone to 301.837.3151, or by mail to National Archives and Records Administration; Regulation Comments Desk, Suite 4100; College Park, MD 20740-6001.

FOR FURTHER INFORMATION CONTACT: Denise LeBeck by phone at 301-837-1724, by email at denise.lebeck@nara.gov, or by mail at National Archives and Records Administration; Office of Presidential Libraries; 8601 Adelphi Road; College Park, MD 20740-6001.

Dated: July 20, 2016.
Patrice Little Murray,
Committee Management Officer.

[FR Doc. 2016-17460 Filed 7-22-16; 8:45 am]

BILLING CODE 7515-01-P